DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Pub. L. No. 92-463, 86 Stat.770) requires that public notice of these meetings be announced in the Federal Register.

DATES: Monday, January 22, 2001, 6:30 p.m.-9 p.m., Tuesday, January 23, 2001, 8:30 a.m.-4 p.m.

ADDRESSES: Hilton Oceanfront Hotel-Palmetto Dunes, 23 Ocean Lane, Hilton Head Island, SC 29928.

FOR FURTHER INFORMATION CONTACT: Gerri Flemming, Science Technology & Management Division, Department of Energy Savannah River Operations Office, P.O. Box A, Aiken, SC, 29802; Phone: (803) 725-1958.

SUPPLEMENTARY INFORMATION: Purpose of the Board: The purpose of the Board is to make recommendations to DOE and its regulators in the areas of environmental restoration, waste management, and related activities.

Tentative Agenda:

Monday, January 22, 2001

6:00 p.m.-6:30 p.m. Public comment session

6:30 p.m.-8:00 p.m. Committee meetings

Tuesday, January 23, 2001

8:30 a.m.-9:30 a.m. Approval of minutes; Agency updates; Recognition for Outgoing Board Members; Public Comment Session; Facilitator Update

9:30 a.m.-11:00 a.m. Waste Management Committee Report

11:00 a.m.-12:00 p.m. Nuclear Materials Committee Report, Public Comments

1:00 p.m.-1:30 p.m. Savannah River History Project

1:30 p.m.-2:15 p.m. Packaging and Transportation

2:15 p.m.-3:00 p.m. Environmental Remediation Committee

3:00 p.m.-4:00 p.m. Administrative Committee Report; 2001 Subcommittee Chair and Membership Elections; Public comments

If needed, time will be allotted after public comments for items added to the agenda, and administrative details. A final agenda will be available at the meeting, Monday, January 22.

Public Participation: The meeting is open to the public. Written statements may be filed with the Board either before or after the meeting. Individuals who wish to make the oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC, 20585 between 9 a.m. and 4 p.m., Monday through Friday, except Federal holidays. Minutes will also be available by writing to Gerri Fleming, Department of Energy Savannah River Operations Office, PO Box A, Aiken, SC 29802, or by calling her at (803) 725-1958.

Issued at Washington, DC, on December 18, 2000.
Rachel M. Samuel,
Deputy Advisory Committee Management Officer.

[FR Doc. 00-32684 Filed 12-21-00; 8:45 am]

BILLING CODE 6450-01-P